DEPARTMENT OF THE INTERIOR

Bureau of Indian Affairs

[178A2100DD/AAKC001030/A0A501010.999900 253G]

Indian Gaming; Approval of an Amendment to a Tribal-State Class III Gaming Compact in the State of Washington

AGENCY: Bureau of Indian Affairs, Interior.

ACTION: Notice.

SUMMARY: The Squaxin Island Tribe of the Squaxin Island Reservation and State of Washington negotiated the Fifth Amendment to the Tribal State Compact for the Class III Gaming between the Squaxin Island Tribe and the State of Washington governing Class III gaming; this notice announces approval of the Agreement to Amend Compact.

DATES: This notice is applicable as of July 27, 2017.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The Fifth Amendment to the Tribal State Compact for the Class III Gaming between the Squaxin Island Tribe and the State of Washington revises the definition section, allows for an additional gaming facility, and increases the number of gaming stations and wager limits. Patrons 18-21 years of age are prohibited from alcohol purchase or consumption. Primary responsibilities for conducting background investigations are identified. The Tribe will establish a Problem Gambling Program. The Fifth Amendment to the Tribal State Compact for the Class III Gaming between the Squaxin Island Tribe and the State of Washington is approved. See 25 U.S.C. 2710(d)(8)(A).

Dated: July 17, 2017.
Michael S. Black,
Acting Assistant Secretary—Indian Affairs.

[FR Doc. 2017-15641 Filed 7-26-17; 8:45 am]

BILLING CODE 4337-15-P